DEPARTMENT OF COMMERCE

International Trade Administration

[A-533-843]

Certain Lined Paper Products From India: Preliminary Results of Antidumping Duty Administrative Review and Preliminary Determination of No Shipments; 2016-2017

AGENCY: Enforcement and Compliance, International Trade Administration, Department of Commerce.

SUMMARY: The Department of Commerce (Commerce) preliminarily determines that sales of certain lined paper products were not made at less than normal value during the September 1, 2016, through August 31, 2017, period of review (POR). We invite interested parties to comment on these preliminary results.

DATES: Applicable October 10, 2018.

FOR FURTHER INFORMATION CONTACT: Cindy Robinson or Joy Zhang, AD/CVD Operations, Office III, Enforcement and Compliance, International Trade Administration, U.S. Department of Commerce, 1401 Constitution Avenue NW, Washington DC 20230; telephone (202) 482-3797 or (202) 482-1168, respectively.

Background

On September 28, 2006, Commerce published the CLPP from India Order in the Federal Register.¹ On November 13, 2017, pursuant to section 751(a)(1) of the Tariff Act of 1930, as amended (the Act), Commerce initiated an administrative review of the antidumping duty order on certain lined paper products from India.² On January 23, 2018, Commerce exercised its discretion to toll all deadlines affected by the closure of the Federal Government from January 20 through 22, 2018.³ On May 10, 2018, we extended the deadline for the preliminary results to October 3, 2018.⁴

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP from India Order).

² See Initiation of Antidumping and Countervailing Duty Administrative Reviews, 82 FR 52268 (November 13, 2017) (Initiation Notice).

³ See memorandum, “Deadlines Affected by the Shutdown of the Federal Government,” dated January 23, 2018. All deadlines in this segment of the proceeding have been extended by three days.

⁴ See Memorandum, “Certain Lined Paper Products from India: Extension of Time Limit for Preliminary Results of Antidumping Duty Administrative Review; 2016-2017,” dated May 10, 2018.

Commerce initiated this administrative review covering the following twelve companies: Goldenpalm Manufacturers PVT Limited (Goldenpalm), Kokuyo Riddhi Paper Products Pvt. Ltd. (Kokuyo), Lodha Offset Limited (Lodha), Lotus Global Private Limited (Lotus Global), Magic International Pvt. Ltd. (Magic), Marisa International (Marisa), Navneet Education Ltd. (Navneet), Pioneer Stationery Pvt. Ltd. (Pioneer), PP Bafna Ventures Private Limited (PP Bafna), SAB International, SGM Paper Products, and Super Impex.⁵ On August 16, 2018, we rescinded the administrative review with respect to Goldenpalm, Super Impex, SAB International, Lotus Global, and PP Bafna.⁶ This review covers two mandatory respondents, Navneet and Kokuyo. The following five companies were not selected for individual examination and remain subject to this administrative review: Lodha, Magic International Pvt. Ltd., Marisa, Pioneer Stationery Pvt. Ltd., and SGM Paper Products.

⁵ See Initiation Notice, 82 FR at 52269.

⁶ See Certain Lined Paper Products from India: Notice of Partial Rescission of Antidumping Duty Administrative Review; 2016-2017, 83 FR 40750 (August 16, 2018).

Scope of the Order

The merchandise covered by the CLPP from India Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive. A full description of the scope of the CLPP from India Order is contained in the Preliminary Decision Memorandum.⁷

⁷ See the “Decision Memorandum for the Preliminary Results of Antidumping Duty Administrative Review: Certain Lined Paper Products from India; 2016-2017,” dated concurrently and hereby adopted by this notice (Preliminary Decision Memorandum).

Preliminary Determination of No Shipments

On December 11 and 18, 2017, in their respective responses to Commerce's quantity and value questionnaire, Lodha and Marisa reported that they had no exports or sales of subject merchandise into the United States during the POR. To confirm Lodha's and Marisa's no-shipment claims, Commerce issued a no-shipment inquiry to U.S. Customs and Border Protection (CBP) requesting that it review Lodha's and Marisa's no-shipment claims. CBP did not report that it had any information to contradict these claims of no shipments during the POR.

Given that Lodha and Marisa reported that they made no shipments of subject merchandise to the United States during the POR, and there is no information calling their claims into question, we preliminarily determine that Lodha and Marisa made no shipments of subject merchandise during the POR. Consistent with Commerce's practice, we will not rescind the review with respect to Lodha and Marisa but, rather, will complete the review and issue instructions to CBP based on the final results.⁸

⁸ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Methodology

Commerce is conducting this review in accordance with section 751(a)(2) of the the Act. Export price is calculated in accordance with section 772 of the Act. Normal value is calculated in accordance with section 773 of the Act. For a full description of the methodology underlying our preliminary results, see the Preliminary Decision Memorandum. The Preliminary Decision Memorandum is a public document and is on file electronically via Enforcement and Compliance's Antidumping and Countervailing Duty Centralized Electronic Service System (ACCESS). ACCESS is available to registered users at https://access.trade.gov and is available to all parties in the Central Records Unit, Room B-8024 of the main Department of Commerce building. In addition, a complete version of the Preliminary Decision memorandum can be accessed directly at http://enforcement.trade.gov/frn/index.html. The signed Preliminary Decision Memorandum and the electronic version of the Preliminary Decision Memorandum are identical in content. A list of the topics discussed in the Preliminary Decision Memorandum is attached as an Appendix to this notice.

Preliminary Results of the Review

As a result of this review, we preliminarily calculated a dumping margin of 0.33 percent (de minimis) for Navneet and zero percent for Kokuyo. We are applying to the non-selected companies the rates calculated for the mandatory respondents in these preliminary results, as referenced below.⁹

⁹ See Albemarle Corp. & Subsidiaries v. United States, 821 F.3d 1345 (Fed. Cir. 2016) (Albemarle).

Producer/exporter | Weighted- average dumping margin (percent)
Kokuyo Riddhi Paper Products Pvt. Ltd | 0.00
Navneet Education Ltd | 0.33 (de minimis)
Magic International Pvt. Ltd. | 0.00
Pioneer Stationery Pvt. Ltd. | 0.00
SGM Paper Products | 0.00

Assessment Rate

Upon issuance of the final results, Commerce shall determine, and CBP shall assess, antidumping duties on all appropriate entries covered by this review. If the weighted-average dumping margin for Kokuyo or Navneet is not zero or de minimis (i.e., less than 0.5 percent), we will calculate importer-specific ad valorem antidumping duty assessment rates based on the ratio of the total amount of dumping calculated for each importer's examined sales to the total entered value of those same sales in accordance with 19 CFR 351.212(b)(1).¹⁰ If the weighted-average dumping margin for Kokuyo or Navneet is zero or de minimis in the final results, or an importer-specific assessment rate is zero or de minimis in the final results, we will instruct CBP not to assess antidumping duties on any of their entries in accordance with the Final Modification for Reviews.¹¹

¹⁰ In these preliminary results, Commerce applied the assessment rate calculation method adopted in Antidumping Proceedings: Calculation of the Weighted-Average Dumping Margin and Assessment Rate in Certain Antidumping Proceedings: Final Modification, 77 FR 8101 (February 14, 2012). (Final Modification for Reviews).

¹¹ Id. at 8102.

In accordance with Commerce's assessment practice, for entries of subject merchandise during the POR produced by each respondent for which it did not know that its merchandise was destined for the United States, we will instruct CBP to liquidate unreviewed entries at the all-others rate if there is no rate for the intermediate company(ies) involved in the transaction.

We intend to issue instructions to CBP 15 days after publication of the final results of this review.

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for respondents noted above will be the rates established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 3.91 percent, the all-others rate established in the investigation as modified by the section 129 determination.¹² These cash deposit requirements, when imposed, shall remain in effect until further notice.

¹² See Implementation of the Findings of the WTO Panel in US—Zeroing (EC): Notice of Determinations Under Section 129 of the Uruguay Round Agreements Act and Revocations and Partial Revocations of Certain Antidumping Duty Orders, 72 FR 25261 (May 4, 2007).

Disclosure

We intend to disclose the calculations performed in these preliminary results to parties in this proceeding within five days of the date of publication of this notice.¹³

¹³ See 19 CFR 351.224(b).

Public Comment

Pursuant to 19 CFR 351.309(c)(ii), interested parties may submit case briefs not later than 30 days after the date of publication of this notice. Rebuttal briefs, limited to issues raised in the case briefs, may be filed no later than five days after the date for filing case briefs.¹⁴ Parties who submit case briefs or rebuttal briefs in this proceeding are encouraged to submit with each argument: (1) A statement of the issue; (2) a brief summary of the argument; and (3) a table of authorities.¹⁵ All briefs must be filed electronically using ACCESS. An electronically filed document must be received successfully in its entirety by the established deadline.

¹⁴ See 19 CFR 351.309(d).

¹⁵ See 19 CFR 351.309(c)(2) and (d)(2) and 19 CFR 351.303 (for general filing requirements).

Pursuant to 19 CFR 351.310(c), interested parties who wish to request a hearing, limited to issues raised in the case and rebuttal briefs, must submit a written request to the Assistant Secretary for Enforcement and Compliance, within 30 days after the date of publication of this notice. Requests should contain: (1) The party's name, address, and telephone number; (2) the number of participants; and (3) a list of issues to be discussed. If a request for a hearing is made, Commerce intends to hold the hearing at the U.S. Department of Commerce, 1401 Constitution Avenue NW, Washington, DC 20230, at a time and date to be determined. Parties should confirm by telephone the date, time, and location of the hearing two days before the scheduled date.

We intend to issue the final results of this administrative review, including the results of our analysis of the issues raised in any written briefs, not later than 120 days after the date of publication of this notice, pursuant to section 751(a)(3)(A) of the Act.

Notification to Importers

This notice serves as a preliminary reminder to importers of their responsibility under 19 CFR 351.402(f)(2) to file a certificate regarding the reimbursement of antidumping duties and/or countervailing duties prior to liquidation of the relevant entries during this review period. Failure to comply with this requirement could result in the Secretary's presumption that reimbursement of antidumping duties occurred and increase the subsequent assessment of the antidumping duties.

Notification to Interested Parties

We are issuing and publishing these results in accordance with sections 751(a)(1) and 777(i)(1) of the Act, and 19 CFR 351.213(h)(1).

Dated: October 3, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Preliminary Determination of No Shipments

V. Discussion of Methodology

A. Comparisons to Normal Value

1. Determination of Comparison Method

2. Results of the Differential Pricing Analysis

B. Product Comparisons

C. Date of Sale

D. Export Price

E. Normal Value

1. Home Market Viability

2. Cost of Production Analysis

a. Calculation of COP

b. Test of Comparison Market Prices and COP

c. Results of COP Test

F. Level of Trade

G. Calculation of Normal Value Based on Comparison Market Prices

H. Margin for Companies Not Selected for Individual Examination

I. Currency Conversions

VI. Recommendation

[FR Doc. 2018-21850 Filed 10-9-18; 8:45 am]

BILLING CODE 3510-DS-P